DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: April 22, 2010, 8:30 a.m.-4:15 p.m. EST; April 23, 2010, 8:30 a.m.-4:15 p.m. EST.

Place: DoubleTree Hotel Bethesda, 8120 Wisconsin Avenue, Bethesda, MD 20814, Telephone: (301) 652-2000.

Status: The meeting will be open to the public except on Friday, April 23 from 12 p.m.-1 p.m.

Agenda: On April 22, the meeting will be called to order with remarks from the COGME Chair and the Executive Secretary of COGME. There will be presentations addressing topics such as: (1) The adequacy of the pediatrician workforce physician supply; (2) the results of a recent study of primary care physician workforce projections by State; (3) the Bureau of Health Professions plans for healthcare workforce analytics; (4) a patient-centered primary care collaborative; and (5) the relationship between primary care, population health, and health care costs.

On April 23, there will be presentations on the workforce components of key health reform legislation and on challenges facing graduate medical education in the coming decade. The Council members will enter into a discussion and will formulate recommendations to the Secretary of Health and Human Services and the Congress as part of the Council's emerging report covering the primary care physician workforce.

Agenda items are subject to change as priorities dictate.

For Further Information Contact: Anyone interested in obtaining a roster of members or other relevant information should write or contact Jerald M. Katzoff, Executive Secretary, COGME, Division of Medicine and Dentistry, Bureau of Health Professions, Parklawn Building, Room 9A-27, 5600 Fishers Lane, Rockville, Maryland 20857, Telephone (301) 443-4443. The Web address for information on the Council and the April 22-23, 2010 meeting agenda is http://cogme.gov.

COGME will join the National Advisory Council on Nursing Education and Practice (NACNEP), the Advisory Committee on Training in Primary Care Medicine and Dentistry (ACTPCMD), and the Advisory Committee on Interdisciplinary, Community-Based Linkages (ACICBL) on April 21, 2010 for the third Bureau of Health Professions (BHPr) All Advisory Committee Meeting. Please refer to the Federal Register notice for the BHPr All Advisory Committee Meeting for additional details.

Supplementary Information: Requests to make oral comments or to provide written comments to the Council should be sent to Jerald M. Katzoff, Executive Secretary, COGME, at the contact information above. Individuals who plan to attend and need special assistance should notify the office at the address and phone number above at least 10 days prior to the meeting. Members of the public will have the opportunity to provide comments at the meeting.

Dated: March 18, 2010.
Sahira Rafiullah,
Director, Division of Policy and Information Coordination.

[FR Doc. 2010-6586 Filed 3-24-10; 8:45 am]

BILLING CODE 4165-15-P